ENVIRONMENTAL PROTECTION AGENCY

40 CFR Parts 141 and 142

[EPA-HQ-OW-2017-0300; FRL-10003-26-OW]

RIN 2040-AF15

National Primary Drinking Water Regulations: Lead and Copper Rule Revisions

AGENCY: Environmental Protection Agency (EPA).

ACTION: Proposed rule; extension of comment period.

SUMMARY: On November 13, 2019, the U.S. Environmental Protection Agency (EPA) published in the Federal Register a proposed rule pertaining to the National Primary Drinking Water Regulation (NPDWR) for lead and copper under the authority of the Safe Drinking Water Act (SDWA) and requested comments by January 13, 2020. In response to stakeholder requests, the EPA is extending the comment period an additional 30 days to February 12, 2020.

DATES: Comments must be received on or before February 12, 2020.

ADDRESSES: You may send comments, identified by Docket ID No. EPA-HQ-OW-2017-0300 by any of the following methods:

Federal eRulemaking Portal: https://www.regulations.gov/ (our preferred method). Follow the online instructions for submitting comments.

Instructions: All submissions received must include the Docket ID No. for this rulemaking. Comments received may be posted without change to https://www.regulations.gov/, including any personal information provided. For detailed instructions on sending comments and additional information on the rulemaking process, see the “Public Participation” heading of the SUPPLEMENTARY INFORMATION section of this document.

FOR FURTHER INFORMATION CONTACT: For additional information please contact Erik Helm at the Environmental Protection Agency, Office of Ground Water and Drinking Water (Mail Code 4607M), 1200 Pennsylvania Avenue NW, Washington, DC 20460; telephone: 202-566-1049; or email: helm.erik@epa.gov.

SUPPLEMENTARY INFORMATION:

I. Public Participation

Written Comments

Submit your comments, identified by Docket ID No. EPA-HQ-OW-2017-0300 at https://www.regulations.gov (our preferred method), or the other methods identified in the ADDRESSES section. Once submitted, comments cannot be edited or removed from the docket. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

II. General Information

On November 13, 2019, the EPA published in the Federal Register (84 FR 61684) a notice of proposed rulemaking (NPRM) for the National Primary Drinking Water Regulations: Proposed Lead and Copper Rule Revisions. The (NPRM) revisions and request for public comment, as initially published in the Federal Register, provided for written comments to be submitted to the EPA on or before January 13, 2020 (a 60-day public comment period). Since publication, the EPA has received requests for additional time to submit comments. Many of the requests cite the need for additional time to consider the regulatory changes that have been proposed and to evaluate the substantial supporting materials in the docket. The EPA has considered these requests and is extending the public comment period for an additional 30 days until February 12, 2020. The EPA will consider public comments in the development of final regulatory revisions to the National Primary Drinking Water Regulations for Lead and Copper. The proposal and supporting documents are available at https://www.regulations.gov (Docket ID No. EPA-HQ-OW-2017-0300).

Dated: December 13, 2019.
David P. Ross,
Assistant Administrator, Office of Water.

[FR Doc. 2019-27282 Filed 12-18-19; 8:45 am]

BILLING CODE 6560-50-P